DEPARTMENT OF TRANSPORTATION

Office of the Secretary

Notice of Applications for Certificates of Public Convenience and Necessity and Foreign Air Carrier Permits Filed Under Subpart B (Formerly Subpart Q) During the Week Ending November 29, 2014

The following Applications for Certificates of Public Convenience and Necessity and Foreign Air Carrier Permits were filed under Subpart B (formerly Subpart Q) of the Department of Transportation's Procedural Regulations (See 14 CFR 302. 201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0209.

Date Filed: November 26, 2014.

Due Date for Answers, Conforming Applications, or Motion To Modify Scope:December 17, 2014.

Description

Application of Air Cargo Global, s.r.o. (“ACG”) requesting a foreign air carrier permit and exemption authority to enable ACG to engage in foreign scheduled and charter air transportation of property and mail between any point or points in the United States and any point or points outside the United States, and any other transportation authorized by additional rights made available to European Community carriers in the future.

Barbara J. Hairston,
Supervisory Dockets Officer, Docket Operations, Federal Register Liaison.

[FR Doc. 2015-03546 Filed 2-20-15; 8:45 am]

BILLING CODE 4910-9X-P